DEFENSE NUCLEAR FACILITIES SAFETY BOARD

Extension of Hearing Record Closure Date

AGENCY: Defense Nuclear Facilities Safety Board.

ACTION: Extension of hearing record closure date.

SUMMARY: The Defense Nuclear Facilities Safety Board (Board) published a document in the Federal Register on September 25, 2014, (79 FR 57543) concerning notice of a public hearing and meeting on October 7, 2014, regarding safety culture at Department of Energy defense nuclear facilities. The Board stated in that notice that the hearing record would remain open until November 7, 2014, for the receipt of additional materials. The Board made the same representation at the conclusion of the hearing on October 7, 2014.

DATES: The Board now extends the period of time for which the hearing record will remain open to November 21, 2014, to accommodate the submission of additional documents to the hearing record.

FOR FURTHER INFORMATION CONTACT: Mark Welch, General Manager, Defense Nuclear Facilities Safety Board, 625 Indiana Avenue NW., Suite 700, Washington, DC 20004-2901, (800) 788-4016. This is a toll-free number.

Dated: November 4, 2014.
Peter S. Winokur,
Chairman.

[FR Doc. 2014-26616 Filed 11-7-14; 8:45 am]

BILLING CODE 3670-01-P